DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 56562-63, dated November 8, 2001) is amended to revise the mission statement for the Office of the Director, Division of Adult and Community Health, and establish the Emerging Investigations and Analytic Methods Branch, Division of Adult and Community Health, National Center for Chronic Disease Prevention and Health Promotion, Centers for Disease Control and Prevention.

Section C-B, Organization and Functions, is hereby amended as follows:

Delete the mission statement for the Office of the Director (CL31), Division of Adult and Community Health (CL3), and insert the following:

(1) Manages, coordinates, and evaluates the activities and programs of the Division; (2) ensures that Division activities are coordinated with other components of CDC both within and outside the Center, with Federal, State, and local health agencies, and with voluntary and professional health agencies; (3) provides leadership and coordinates Division responses to requests for research, consultation, training, collaboration, and technical assistance or information on managed care, health promotion, behavioral surveys, cardiovascular health, aging, epilepsy, and arthritis; (4) provides administrative, logistical, and management support for Division field staff; (5) provides administrative and management support for the Division including guidance on the organization of personnel and the use of financial resources, and oversight of grants, cooperative agreements, contracts, and reimbursable agreements.

After the functional statement for the Cardiovascular Health Branch (CL33), insert the following:

Emerging Investigations and Analytic Methods Branch (CL34). (1) Conducts epidemiologic research and investigations of cross-cutting emerging scientific issues for NCCDPHP; (2) uses geographic information systems (GIS) to provide spatial and temporal relationships among data; (3) conducts operational research to evaluate the cost-effectiveness or cost-benefit of chronic disease prevention and control technologies and develops and recommends national policy to address issues related to the economics of health care; (4) performs research on racism and its social determinants on health, adverse childhood events, mental health, gene environment interactions, and alcohol; (5) coordinates and provides guidance in the evaluation of community and state-based intervention programs; (6) designs and produces a wide range of visual materials (e.g., slides, overheads, exhibits) for presentations and instructional activities; (7) coordinates Branch activities through the Division with other components of CDC, other Federal, State, and local Government agencies, and other private, public, nonprofit, and international organizations as appropriate.

Dated: March 19, 2002.
Jeffrey P. Koplan,
Director.

[FR Doc. 02-7385 Filed 3-27-02; 8:45 am]

BILLING CODE 4160-18-M